DEPARTMENT OF COMMERCE

International Trade Administration

[A-557-820]

Silicon Metal From Malaysia: Antidumping Duty Order

AGENCY: Enforcement and Compliance, International Trade Administration, Department of Commerce.

SUMMARY: Based on affirmative final determinations by the Department of Commerce (Commerce) and the International Trade Commission (ITC), Commerce is issuing an antidumping duty order on silicon metal from Malaysia.

DATES: Applicable August 19, 2021.

FOR FURTHER INFORMATION CONTACT: Genevieve Coen, AD/CVD Operations, Enforcement and Compliance, International Trade Administration, U.S. Department of Commerce, 1401 Constitution Avenue NW, Washington, DC 20230, telephone: (202) 482-3251.

SUPPLEMENTARY INFORMATION:

Background

On June 24, 2021, Commerce published its affirmative final determination in the less-than-fair-value (LTFV) investigation of silicon metal from Malaysia.¹ On August 9, 2021, the ITC notified Commerce of its final determination, pursuant to section 735(d) of the Tariff Act of 1930, as amended (the Act), that an industry in the United States is materially injured within the meaning of section 735(b)(1)(A)(i) of the Act by reason of LTFV imports of silicon metal from Malaysia.²

¹ See Silicon Metal from Malaysia: Final Affirmative Determination of Sales at Less Than Fair Value, 86 FR 133224 (June 24, 2021) (Final Determination), and accompanying Issues and Decision Memorandum.

² See ITC Letter, Notification of ITC Final Determination in Investigation No. 731-TA-1526 (Final), dated August 9, 2021.

Scope of the Order

The product covered by this order is silicon metal from Malaysia. For a complete description of the scope of the order, see the appendix to this notice.

Antidumping Duty Order

On August 9, 2021, in accordance with section 735(d) of the Act, the ITC notified Commerce of its final determination in this investigation, in which it found that an industry in the United States is materially injured within the meaning of section 735(b)(1)(A)(i) of the Act by reason of imports of silicon metal from Malaysia.³ Therefore, in accordance with section 735(c)(2) of the Act, Commerce is issuing this antidumping duty order. Because the ITC determined that imports of silicon metal from Malaysia are materially injuring a U.S. industry, unliquidated entries of such merchandise from Malaysia, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of silicon metal from Malaysia. With the exception of entries occurring after the expiration of the provisional measures period and before publication of the ITC's final affirmative injury determination, as further described below, antidumping duties will be assessed on unliquidated entries of silicon metal from Malaysia entered, or withdrawn from warehouse, for consumption, on or after February 1, 2021, the date of publication of the Preliminary Determination.⁴

⁴ See Silicon Metal from Malaysia: Preliminary Affirmative Determination of Sales at Less Than Fair Value, Postponement of Final Determination, and Extension of Provisional Measures, 85 FR 73676 (February 1, 2021) (Preliminary Determination).

Continuation of Suspension of Liquidation

Except as noted in the “Provisional Measures” section of this notice, in accordance with section 736 of the Act, Commerce intends to instruct CBP to continue to suspend liquidation on all relevant entries of silicon metal from Malaysia. These instructions suspending liquidation will remain in effect until further notice.

Commerce also intends to instruct CBP to require cash deposits equal to the estimated weighted-average dumping margins indicated in the table below. Accordingly, effective on the date of publication in the Federal Register of the notice of the ITC's final affirmative injury determination, CBP will require, at the same time as importers would normally deposit estimated duties on subject merchandise, a cash deposit equal to the rates listed below. The relevant all-others rate applies to all producers or exporters not specifically listed.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of silicon metal from Malaysia, Commerce extended the four-month period to six months in this investigation. Commerce published the preliminary determination in this investigation on February 1, 2021.⁵

⁵ See Preliminary Determination.

The extended provisional measures period, beginning on the date of publication of the Preliminary Determination, ended on July 31, 2021. Therefore, in accordance with section 733(d) of the Act, Commerce intends to instruct CBP to terminate the suspension of liquidation and to liquidate, without regard to antidumping duties, unliquidated entries of silicon metal from Malaysia entered, or withdrawn from warehouse, for consumption after July 30, 2021, the final day on which the provisional measures were in effect, until and through the day preceding the date of publication of the ITC's final affirmative injury determinations in the Federal Register. Suspension of liquidation and the collection of cash deposits will resume on the date of publication of the ITC's final determination in the Federal Register.

Estimated Weighted-Average Dumping Margins

The estimated weighted-average dumping margins are as follows:

Malaysia:

Exporter/producer | Estimated weighted- average dumping margin (percent)
PMB Silicon Sdn. Bhd | 12.27
All Others | 12.27

Notification to Interested Parties

This notice constitutes the antidumping duty order with respect to silicon metal from Malaysia pursuant to section 736(a) of the Act. Interested parties can find a list of antidumping duty orders currently in effect at http://enforcement.trade.gov/stats/iastats1.html.

This antidumping duty order is published in accordance with section 736(a) of the Act and 19 CFR 351.211(b).

Dated: August 13, 2021.
Christian Marsh,
Acting Assistant Secretary for Enforcement and Compliance.

Appendix

Scope of the Order

The scope of this order covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of this order.

Silicon metal is currently classifiable under subheadings 2804.69.1000 and 2804.69.5000 of the HTSUS. While the HTSUS numbers are provided for convenience and customs purposes, the written description of the scope remains dispositive.

[FR Doc. 2021-17791 Filed 8-18-21; 8:45 am]

BILLING CODE 3510-DS-P